DEPARTMENT OF ENERGY

Federal Energy Regulatory Commission

[Docket No. IC19-7-000]

Commission Information Collection Activities (Ferc-915); Comment Request; Withdrawal

AGENCY: Federal Energy Regulatory Commission, Department of Energy.

ACTION: Notice of information collection and request for comments; withdrawal.

SUMMARY: This document withdraws the Notice of Information Collection and request for comments published in the Federal Register of April 12, 2019, soliciting public comment on the currently approved information collection FERC-915 (Public Utility Market-Based Rate Authorization Holders—Records Retention Requirements) and submitting the information collection to the Office of Management and Budget (OMB) for review. The notice was issued in error.

DATES: The notice published on April 12, 2019 (84 FR 14935) is withdrawn as of April 19, 2019.

FOR FURTHER INFORMATION CONTACT: Ellen Brown may be reached by email at DataClearance@FERC.gov, telephone at (202) 502-8663, and fax at (202) 273-0873.

SUPPLEMENTARY INFORMATION: On April 8, 2019, the Federal Energy Regulatory Commission (Commission) issued a 30-day public notice regarding the extension of information collection FERC-915, Public Utility Market-Based Rate Authorization Holders, Records Retention Requirement, which published in the Federal Register on April 12, 2019. The 30-day notice was issued in error and was withdrawn.

Dated: April 15, 2019.
Nathaniel J. Davis, Sr.,
Deputy Secretary.

[FR Doc. 2019-07947 Filed 4-18-19; 8:45 am]

BILLING CODE 6717-01-P